DEPARTMENT OF COMMERCE

International Trade Administration

[A-201-849]

Refillable Stainless Steel Kegs From Mexico: Rescission of Antidumping Duty Administrative Review; 2019-2020

AGENCY: Enforcement and Compliance, International Trade Administration, Department of Commerce.

SUMMARY: The Department of Commerce (Commerce) is rescinding the administrative review of the antidumping duty order on refillable stainless steel kegs (kegs) from Mexico covering the period of review (POR) October 9, 2019, through September 30, 2020, based on the timely withdrawal of the request for review.

DATES: Applicable January 13, 2021.

FOR FURTHER INFORMATION CONTACT: Christopher Williams, AD/CVD Operations, Office I, Enforcement and Compliance, International Trade Administration, U.S. Department of Commerce, 1401 Constitution Avenue NW, Washington, DC 20230; telephone: (202) 482-5166.

SUPPLEMENTARY INFORMATION:

Background

On October 1, 2020, Commerce published a notice of opportunity to request an administrative review of the antidumping duty order on kegs from Mexico for the period October 9, 2019 through September 30, 2020.¹ On October 26, 2020, American Keg Company (the petitioner) timely requested an administrative review of the antidumping duty order with respect to four exporters/producers.² Commerce received no other requests for an administrative review of the antidumping duty order.

¹ See Antidumping or Countervailing Duty Order, Finding, or Suspended Investigation; Opportunity to Request Administrative Review, 85 FR 61926 (October 1, 2020); see also Antidumping or Countervailing Duty Order, Finding, or Suspended Investigation; Opportunity to Request Administrative Review, 85 FR 69586 (November 3, 2020).

² See Petitioner's Letter, “Refillable Stainless Steel Kegs from Mexico: Request for Administrative Reviews,” dated October 26, 2020.

On December 8, 2020, pursuant to section 751(a) of the Tariff Act of 1930, as amended (the Act), and 19 CFR 351.221(c)(1)(i), we published in the Federal Register a notice of initiation of an administrative review of the antidumping duty order on kegs from Mexico with respect to the four companies listed in the petitioner's request for review.³ On December 14, 2020, Commerce released U.S. Customs and Border Protection (CBP) import data to eligible parties and invited comments concerning selection of respondents for individual examination.⁴ On December 18, 2020, the petitioner timely withdrew its administrative review request for all four companies for which a review was requested: Cerveceria Cuauhtemoc Moctezuma S.A. de C.V., Europartners Mexico S.A. de C.V., Grupo de Intercambio Comercial S.A. de C.V., Thielmann Mexico S.A. de C.V.⁵

³ See Initiation of Antidumping and Countervailing Duty Administrative Reviews, 85 FR 78990 (December 8, 2020) (Initiation Notice).

⁴ See Commerce's Letter, dated December 14, 2020.

⁵ See Petitioner's Letter, “Refillable Stainless Steel Kegs from Mexico: Withdrawal of Request for Administrative Review,” dated December 18, 2020.

Rescission of Administrative Review

Pursuant to 19 CFR 351.213(d)(1), Commerce will rescind an administrative review, in whole or in part, if a party that requested a review withdraws the request within 90 days of the date of publication of notice of initiation of the requested review. The petitioner withdrew their request for review within 90 days of the publication date of the Initiation Notice. No other parties requested an administrative review of the antidumping duty order. Therefore, in accordance with 19 CFR 351.213(d)(1), we are rescinding the administrative review of the antidumping order on kegs from Mexico for the period October 9, 2019, through September 30, 2020, in its entirety.

Assessment

Commerce will instruct CBP to assess antidumping duties on all appropriate entries of kegs from Mexico during the POR at rates equal to the cash deposit rate of estimated antidumping duties required at the time of entry, or withdrawal from warehouse, for consumption, in accordance with 19 CFR 351.212(c)(1)(i). Commerce intends to issue appropriate assessment instructions to CBP 15 days after publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Order

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

Notification to Interested Parties

This notice is issued and published in accordance with sections 751(a)(1) and 777(i)(1) of the Act, and 19 CFR 351.213(d)(4).

Dated: January 7, 2021.
James Maeder,
Deputy Assistant Secretary for Antidumping and Countervailing Duty Operations.

[FR Doc. 2021-00462 Filed 1-12-21; 8:45 am]

BILLING CODE 3510-DS-P